DEPARTMENT OF LABOR

Employment and Training Administration

[TA-W-75,151]

Navistar Truck Development and Technology Center, a Subsidiary of Navistar International Corporation, Truck Division, 2911 Meyer Road, Including Leased Workers From Populous Group, Livernois Vehicle Development, ASG Renaissance, Alpha Personnel, Inc., and PPP Careers, Inc., Fort Wayne, Indiana; Amended Certification Regarding Eligibility To Apply for Worker Adjustment Assistance

In accordance with Section 223 of the Trade Act of 1974, as amended (“Act”), 19 U.S.C. 2273, the Department of Labor issued a Certification of Eligibility to Apply for Worker Adjustment Assistance on October 20, 2011, applicable to workers of Navistar International Truck Development and Technology Center, a Subsidiary of Navistar International Corporation, Truck Division, 2911 Meyer Road, Fort Wayne, Indiana, including on-site leased workers from Populous Group, Livernois Vehicle Development, ASG Renaissance, and Alpha Rae Personnel, Inc. The Department's notice of determination was published in the Federal Register on November 3, 2011 (76 FR 68220).

At the request of a One-Stop Operator/Partner, the Department reviewed the certification for workers of the subject firm. The workers were engaged in engineering and technical consulting services.

The company reports that workers leased from PPP Careers, Inc. were employed on-site at the 2911 Meyer Road, Fort Wayne, Indiana location of Navistar International Truck Development and Technology Center, a Subsidiary of Navistar International Corporation, Truck Division. The Department has determined that these workers were sufficiently under the control of the subject firm to be considered leased workers.

Based on these findings, the Department is amending this certification to include workers leased from PPP Careers, Inc. working on-site at the 2911 Meyer Road, Fort Wayne, Indiana location of Navistar International Truck Development and Technology Center, a Subsidiary of Navistar International Corporation, Truck Division.

The amended notice applicable to TA-W-75,151 is hereby issued as follows:

All workers of PPP Careers, Inc., reporting to Navistar International Truck Development and Technology Center, a Subsidiary of Navistar International Corporation, Truck Division, 2911 Meyer Road, Fort Wayne, Indiana, who became totally or partially separated from employment on or after January 30, 2010 through October 20, 2013, and all workers in the group threatened with total or partial separation from employment on the date of certification through two years from the date of certification, are eligible to apply for adjustment assistance under Chapter 2 of Title II of the Trade Act of 1974, as amended.

Signed in Washington, DC, this July 13, 2012.
Del Min Amy Chen,
Certifying Officer, Office of Trade Adjustment Assistance.

[FR Doc. 2012-17999 Filed 7-23-12; 8:45 am]

BILLING CODE 4510-FN-P